DEPARTMENT OF HOMELAND SECURITY

Coast Guard

[Docket No. USCG-2014-0406]

Waterway Suitability Assessment for Construction and Operation of Liquefied Gas Terminals; Vidor, TX

AGENCY: Coast Guard, DHS.

ACTION: Notice and request for comments.

SUMMARY: Enterprise Terminalling LLC has submitted a Letter of Intent and Preliminary Waterway Suitability Assessment to the Coast Guard Captain of the Port, Port Arthur, TX regarding the company's plans to construct, own and operate a waterfront facility handling Liquefied Hazardous Gas (LHG) at its Vidor, Texas facility. The Coast Guard is notifying the public of this action to solicit public comments on the proposed increase in LHG handling and associated marine traffic on the Sabine-Neches Waterway.

DATES: Comments and related material must be received on or before July 24, 2014.

ADDRESSES: Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: If you have questions on this notice, call or email LTJG Akaninyene Inyang, U.S. Coast Guard; telephone 409-719-5067, email akaninyene.a.inyang@uscg.mil. If you have questions on viewing or submitting material to the docket, call Cheryl Collins, Program Manager, Docket Operations, telephone 202-366-9826, toll free 1-800-647-5527.

SUPPLEMENTARY INFORMATION:

Public Participation and Comments

We encourage you to submit comments (or related material) in response to this notice.

We will consider all submissions and may adjust our final action based on your comments. Comments should be marked with docket number USCG-2014-0406 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

We do not now plan to hold a public meeting, but you may submit a request for one, using one of the methods specified under ADDRESSES. Please explain why you believe a public meeting would be beneficial. If we determine that one would aid this rulemaking, we will hold one at a time and place announced by a later notice in the Federal Register.

Discussion

Under 33 CFR 127.007(a), an owner or operator planning new construction to expand or modify marine terminal operations in an existing facility handling Liquefied Natural Gas (LNG) or Liquefied Hazardous Gas (LHG), where the construction, expansion, or modification would result in an increase in the size and/or frequency of LNG or LHG marine traffic on the waterway associated with the facility, must submit a Letter of Intent (LOI) to the COTP of the zone in which the facility is located. Under 33 CFR 127.007(e), an owner or operator planning such an expansion must also file or update a Waterway Suitability Assessment (WSA) that addresses the proposed increase in LNG or LHG marine traffic in the associated waterway. Enterprise Terminalling LLC located in Vidor, Texas submitted an LOI and WSA on February 27, 2014 regarding the company's proposed construction and operation of LHG capabilities at its Vidor, Texas facility.

Under 33 CR 127.009, after receiving an LOI, the COTP issues a Letter of Recommendation (LOR) as to the suitability of the waterway for LNG or LHG marine traffic to the appropriate jurisdictional authorities. The LOR is based on a series of factors outlined in 33 CFR 127.009 that related to the physical nature of the affected waterway and issues of safety and security associated with LNG or LHG marine traffic on the affected waterway.

The purpose of this notice is to solicit public comments on the proposed increase in LHG marine traffic on the Sabine-Neches Waterway. The Coast Guard believes that input from the public may be useful to the COTP with respect to development of the LOR. Additionally, the Coast Guard intends to task the Area Maritime Security Committee, Port Arthur, Texas and the Southeast Texas Waterways Advisory Council (SETWAC) with forming a subcommittee comprised of affected port users and stakeholders. The goal of these subcommittees will be to gather information to help the COTP assess the suitability of the associated waterway for increased LHG marine traffic as it relates to navigational safety and security.

On January 24, 2011, the Coast Guard published Navigation and Vessel Inspection Circular (NVIC) 01-2011, “Guidance Related to Waterfront Liquefied Natural Gas (LNG) Facilities.” NVIC 01-2011 provides guidance for owners and operators seeking approval to build and operate LNG facilities. While NVIC 01-2011 is specific to LNG, it provides useful process information and guidance for owners and operators seeking approval to build and operate LHG facilities as well. The Coast Guard will refer to NVIC 01-2011 for process information and guidance in evaluating Enterprise Terminalling LLC WSA. A copy of NVIC 01-2011 is available on the Coast Guard's Web site at http://www.uscg.mil/hq/cg5/nvic/2010s.asp.

This notice is issued under authority of 33 U.S.C. 1223-1225, Department of Homeland Security Delegation Number 0170.1(70), 33 CFR 127.009, and 33 CFR 103.205.

Dated: May 21, 2014.
G.J. Paitl,
Captain, U.S. Coast Guard, Captain of the Port, Port Arthur.

[FR Doc. 2014-14634 Filed 6-23-14; 8:45 am]

BILLING CODE 9110-04-P